DEPARTMENT OF AGRICULTURE

Food Safety and Inspection Service

9 CFR Part 327

[Docket No. 01-029F]

RIN 0583-AC91

Addition of San Marino to the List of Countries Eligible To Export Meat Products to the United States

AGENCY: Food Safety and Inspection Service, USDA.

ACTION: Final rule.

SUMMARY: The Food Safety and Inspection Service (FSIS) is adding San Marino to the list of countries eligible to export meat products to the United States. FSIS conducted a thorough review of the San Marino meat processing inspection system, including an on-site review of the San Marino meat processing inspection system in operation. FSIS concluded that San Marino's meat processing laws, regulations, and other written materials demonstrate that they establish requirements that are equivalent to the relevant requirements of the Federal Meat Inspection Act (FMIA) and its implementing regulations, and that San Marino's implementation of meat processing standards and procedures is equivalent to that of the United States.

Meat products from San Marino may be imported into the United States only if these products are processed in certified establishments in San Marino and are derived from animals that were slaughtered only in certified establishments located in other countries that are eligible to export meat to the United States as a result of their slaughter inspection systems having been found equivalent to that of the United States. At present, San Marino will be eligible to export only processed pork products and not meat food products containing livestock product other than pork to the United States. San Marino did not ask to be approved for slaughter of pork. All meat products exported from San Marino to the United States will be subject to reinspection at the U.S. ports-of-entry by FSIS inspectors as required by law.

EFFECTIVE DATE: November 3, 2005.

FOR FURTHER INFORMATION CONTACT: Ms. Sally White, Director, International Equivalence Staff, Office of International Affairs; (202) 720-6400.

SUPPLEMENTARY INFORMATION:

Background

On August 13, 2004, FSIS published a proposal in the Federal Register (69 FR 50086-50088) to add San Marino to the list of countries eligible to export meat and meat products to the United States. As discussed in that proposed rulemaking, in 1997 the government of San Marino requested approval to export meat and meat products to the United States. In response to this request, FSIS conducted a thorough review of the San Marino meat processing inspection system to determine whether it is equivalent to the U.S. meat inspection system. San Marino did not ask FSIS to review its slaughter system for equivalency to the U.S. meat inspection system. FSIS concluded that the requirements contained in San Marino's meat inspection laws and regulations pertaining to its meat processing system are equivalent to those mandated by the FMIA and implementing regulations. FSIS then conducted an on-site review of the San Marino meat processing inspection system in operation. The FSIS review team concluded that San Marino's implementation of meat processing standards and procedures is equivalent to that of the United States.

The government of San Marino will certify to FSIS establishments eligible to export products to the United States. FSIS will retain the right to verify that establishments certified by the San Marino government are meeting requirements equivalent to those of FSIS. This will be done through annual on-site reviews of the establishments while they are in operation.

Products from a country eligible to export meat and meat products must also comply with all other U.S. requirements, including those of the U.S. Customs Service and the restrictions under Title 9, part 94 of the Animal and Plant Health Inspection Service (APHIS) regulations that relate to the importation of meat and meat products from foreign countries into the United States. APHIS is responsible for keeping foreign animal diseases out of the United States. APHIS restricts the importation of any fresh, frozen, and chilled meat, meat products, and edible products from countries in which certain animal diseases exist. Those products that APHIS has restricted from entering the United States are refused entry. FSIS works closely with APHIS in coordinating its import inspection system so as to allow into the United States only meat products that APHIS has found to pose no animal health risk. At present, San Marino has certified only one establishment wishing to export processed pork products as eligible to export meat food products into the United States.

Comments

FSIS received no comments on the proposed rule.

Executive Order 12866 and Regulatory Flexibility Act

This rule has been reviewed under Executive Order 12866. It has been determined to be not significant for purposes of E.O. 12866 and therefore has not been reviewed by the Office of Management and Budget (OMB).

There is only one establishment in San Marino that has applied to export meat products to the United States. This establishment will export non-shelf stable cooked pork products. U.S. imports from this establishment are expected to total approximately 500,000 pounds per year.

Adoption of this rule will continue to open trade between the U.S. and San Marino, which over the past decade has consisted of U.S. firms occasionally exporting small amounts of pork and poultry products to San Marino. This rule will also increase the U.S. food supply.

The impact of this rule on U.S. consumers is voluntary in that consumers will not be required to purchase meat products produced and processed in San Marino, although they may choose to do so. Expected benefits from this type of rule would accrue primarily to consumers in the form of competitive prices due to a larger market variety of meat products. The volume of trade stimulated by this rule, however, will likely be so small as to have little effect on supply and prices. Consumers, apart from any change in prices, would benefit from increased choices in the marketplace.

The costs of this rule will accrue primarily to producers in the form of greater competition from San Marino. Again, it must be noted that the volume of trade stimulated by this rule will be very small, likely having little effect on supply and prices. Nonetheless, it is possible that U.S. firms that produce products that would compete with San Marino imports could face short-term difficulty. In the long run, however, such firms could adjust their product mix in order to compete effectively.

Executive Order 12988

This final rule has been reviewed under Executive Order 12988, Civil Justice Reform. When this final rule is adopted: (1) All State and local laws and regulations that are inconsistent with this rule will be preempted; (2) no retroactive effect will be given to this rule; and (3) administrative proceedings will not be required before parties may file suit in court challenging this rule.

Effect on Small Entities

The Administrator, FSIS, has made a determination that this rule will not have a significant impact on a substantial number of small entities, as defined by the Regulatory Flexibility Act (5 U.S.C. 601). This rule will add San Marino to the list of countries eligible to export meat products into the United States. Currently, only one San Marino establishment has applied to export product to the United States. This establishment is planning to export approximately 500,000 pounds of non-shelf stable cooked pork products to the United States per year. The volume of trade stimulated by this rule would be very small, likely having little effect on supply and prices. Therefore, this rule is not expected to have a significant impact on small entities that produce these types of products domestically.

Paperwork Requirements

No new paperwork requirements are associated with this rule. A foreign country wanting to export livestock products to the United States is required to provide information to FSIS certifying that its inspection system provides standards equivalent to those of the United States and that the legal authority for the system and its implementing regulations are equivalent to those of the United States before it may start exporting such product to the United States. FSIS collects this information one time only. FSIS gave San Marino questionnaires asking for detailed information about the country's inspection practices and procedures to assist the country in organizing its materials. This information collection was approved under OMB number 0583-0094. The proposed rule contains no other paperwork requirements.

Additional Public Notification

Public awareness of all segments of rulemaking and policy development is important. Consequently, in an effort to ensure that the public and in particular minorities, women, and persons with disabilities are aware of this final rule, FSIS will announce it on-line through the FSIS Web page at http://www.fsis.usda.gov/regulations/2005_Proposed _Rules_Index/.

The Regulations.gov Web site is the central online rulemaking portal of the United States government. It is being offered as a public service to increase participation in the Federal government's regulatory activities. FSIS participates in Regulations.gov and will accept comments on documents published on the site. The site allows visitors to search by keyword or Department or Agency for rulemakings that allow for public comment. Each entry provides a quick link to a comment form so that visitors can type in their comments and submit them to FSIS. The Web site is located at http://www.regulations.gov.

FSIS also will make copies of this Federal Register publication available through the FSIS Constituent Update, which is used to provide information regarding FSIS policies, procedures, regulations, Federal Register notices, FSIS public meetings, recalls, and other types of information that could affect or would be of interest to our constituents and stakeholders. The update is communicated via Listserv, a free e-mail subscription service consisting of industry, trade, and farm groups, consumer interest groups, allied health professionals, scientific professionals, and other individuals who have requested to be included. The update also is available on the FSIS web page. Through Listserv and the web page, FSIS is able to provide information to a much broader, more diverse audience.

In addition, FSIS offers an electronic mail subscription service that provides an automatic and customized notification when popular pages are updated, including Federal Register publications and related documents. This service is available at http://www.fsis.usda.gov/news_and_events/email_subscription/ and allows FSIS customers to sign up for subscription options in eight categories. Options range from recalls to export information to regulations, directives and notices. Customers can add or delete subscriptions themselves and have the option to password protect their accounts.

List of Subjects in 9 CFR Part 327

Imports, Meat and meat products.

For the reasons set out in the preamble, 9 CFR part 327 is amended as follows:

PART 327—IMPORTED PRODUCTS

1. The authority citation for part 327 continues to read as follows:

Authority: 21 U.S.C. 601-695; 7 CFR 2.18, 2.53.

§ 327.2 [Amended]

2. Section 327.2 is amended by redesignating footnote 1 as footnote 2, adding “San Marino ¹” in alphabetical order to the list of countries in paragraph (b), and by adding a new footnote 1 to read as follows:

§ 327.2 Eligibility of foreign countries for importation of products into the United States.

* * * * *

(b) * * * San Marino ¹ * * *

¹ Equivalent for processing inspection system only.

Done at Washington, DC, on September 28, 2005.
Barbara J. Masters,
Administrator.

[FR Doc. 05-19774 Filed 10-3-05; 8:45 am]

BILLING CODE 3410-DM-P